ENVIRONMENTAL PROTECTION AGENCY

[ER-FRL-8588-2]

Environmental Impacts Statements; Notice of Availability

Responsible Agency: Office of Federal Activities, General Information (202) 564-1399 or http://www.epa.gov/compliance/nepa/.

Weekly receipt of Environmental Impact Statements

Filed 11/24/2008 through 11/28/2008.

Pursuant to 40 CFR 1506.9.

EIS No. 20080484, Draft EIS, NOA, AK, Bering Sea Chinook Salmon Bycatch Management, Establish New Measures To Minimize Chinook Salmon Bycatch, To Amend the Fishery Management Plan, Implementation, Bering Sea Pollock Fishery, AK, Comment Period Ends: 02/03/2009, Contact: Gretchen Harrington 907-586-7228.

EIS No. 20080485, Draft EIS, SFW, NV, Southeastern Lincoln County Habitat Conservation Plan, Application Package for Three Incidental Take Permits, Authorize the Take of Desert Tortoise (Gopherus agassizii) and Southwestern Willow Flycatcher (Empidonax traillii extimus), Implementation, Lincoln County, NV, Comment Period Ends: 02/18/2009, Contact: Mary Grim 916-414-6464.

EIS No. 20080486, Draft EIS, AFS, AK, Logjam Timber Sale Project, Proposes Timber Harvesting From 4 Land Use Designations, Tongass Land and Resource Management Plan, Thorne Bay Ranger District, Tongass National Forest, Prince of Wales Island, AK, Comment Period Ends: 01/20/2009, Contact: Frank Roberts 907-828-3226.

EIS No. 20080487, Final EIS, AFS, WI, Cayuga Project, Proposed Vegetation and Transportation Management Activities northeast of Clam Lake, Preferred Alternative Selected Alternative 7, Great Divide Ranger District, Chequamegon-Nicolet National Forest, Ashland County, WI, Wait Period Ends: 01/05/2009, Contact: Patty Beyer 906-226-1499.

EIS No. 20080488, Final EIS, FHW, MI, Detroit River International Crossing Study, Propose Border Crossing System Between the International Border Cities of Detroit, Michigan, and Windsor, Ontario, Wayne County, MI, Wait Period Ends: 01/05/2009, Contact: David T. Williams 517-702-1820.

EIS No. 20080489, Revised Draft EIS, DOE, NY, West Valley Demonstration Project and Western New York Nuclear Service Center Decommissioning and/or Long-Term Stewardship, (DOE/EIS-0226-D Revised) City of Buffalo, Eric and Cattaraugus Counties, NY, Comment Period Ends: 06/08/2009, Contact: Catherine Bohan 716-942-4159.

EIS No. 20080490, Final EIS, BPA, WA, Lyle Falls Fish Passage Project, To Improve Fish Passage to Habitat in the Upper Part of the Watershed, Located on the Lower Klickitat River, Klickitat County, WA, Wait Period Ends: 01/05/2009, Contact: Carl Keller 503-230-7697.

EIS No. 20080491, Final EIS, SFW, ME, Lake Umbagog National Wildlife Refuge, Comprehensive Conservation Plan, 15 Year Guidance for Management of Refuge Operations, Habitat and Visitor Services, Implementation, Coos County, NH, and Oxford County, ME, Wait Period Ends: 01/05/2009, Contact: Nancy L. McGarigal 413-253-8562.

EIS No. 20080492, Final EIS, NPS, MI, Sleeping Bear Dunes National Lakeshore, General Management Plan and Wilderness Study, Implementation, Benzie and Leelanau Counties, MI, Wait Period Ends: 01/05/2009, Contact: Dusty Shultz 231-326-5134.

EIS No. 20080493, Final EIS, BLM, NM, Socorro Resource Management Plan Revision, Implementation, Socorro and Catron Counties, NM, Wait Period Ends: 01/05/2009, Contact: Mark Spencer 505-438-7402.

EIS No. 20080494, Draft EIS, AFS, AZ, Safford Recreation Residences Project, Proposes To Issue 88 New Special-Use-Permits for Occupancy and Use of Recreation Residence, Safford Ranger District, Coronado National Forest, Graham County, AZ, Comment Period Ends: 01/20/2009, Contact: Andrea Wargo Campbell 520-388-8352.

EIS No. 20080495, Final EIS, USN, CA, Southern California (SOCAL) Range Complex, To Organize, Train, Equip, and Maintain Combat-Ready Naval Forces, San Diego, Orange and Los Angeles Counties, CA, Wait Period Ends: 12/29/2008, EPA Approval of a Reduce Wait Period because of Compelling Reasons of National Policy Pursuant to 40 CFR Part 1506.10(c). Contact: Alexander Stone 619-545-8128.

EIS No. 20080496, Draft Supplement, EPA, AK, Red Dog Mine Extension—Aqqaluk Project, Reissuance Permit Applications for National Pollutant Discharge Elimination System (NPDES) Permit and New Information, Chukchi Sea, AK. Comment Period Ends: 02/03/2009, Contact: Patty McGrath 206-553-0979.

EIS No. 20080497, Draft EIS, STA, 00, Alberta Clipper Pipeline Project, Application for a Presidential Permit to Construction, Operation and Maintenance of Facilities in United States and Canada Borders, Comment Period Ends: 01/20/2008, Contact: Elizabeth Orlando, Esq, 202-647-4284.

EIS No. 20080498, Final Supplement, NOA, CA, Channel Islands National Marine Sanctuary Management Plan, Implementation, Santa Barbara and Ventura Counties, CA. Wait Period Ends: 01/05/2009, Contact: Chris Mobley 805-966-7107 ext.465.

Amended Notices

EIS No. 20080380, Draft EIS, AFS, CA, Tahoe National Forest Motorized Travel Management, Implementation, Sierra Nevada Mountains, Nevada, Placer, Plumas, Sierra and Yuba Counties, CA. Comment Period Ends: 12/26/2008. Contact: David Arrasmith 530-478-6220. Revision to FR Notice Published 11/03/2008: Extending Comment Period from 11/26/2008 to 12/26/2008.

EIS No. 20080476, Final EIS, COE, 00, White River Minimum Flow Study, To Provide an Improved Minimum Flow for the Benefit of the Tail Water Fishery, White River Basin Lakes: Bull Shoal Lakes on the White River; Norfork Lake on the North Fork White River, AR, Wait Period Ends: 12/29/2008. Contact: Mike Biggs 501-324-7342. Revision to FR Notice Published: Correction to Title.

EIS No. 20080481, Draft EIS, NOA, CA, Southwest Fisheries Science Center Replacement, Construction and Operation, located on University of California, San Diego Scripps Institute of Oceanography Campus, La Jolla, CA, Comment Period Ends: 01/12/2009. Contact: Mark Eberling 206-526-6477. Revision to FR Notice Published 11/28/2008: Correction to Title.

EIS No. 20080433, Final EIS, COE, 00, Programmatic—Port of New York and New Jersey Dredged Material Material Management Plan, Updated Information to 1999 Final EIS, Implementation, NY and NJ, Wait Period Ends: 02/01/2009. Contact: Christopher Ricciardi, PhD, 917-790-8630.

Dated: November 2, 2008.
Robert W. Hargrove,
Director, NEPA Compliance Division, Office of Federal Activities.

[FR Doc. E8-28852 Filed 12-4-08; 8:45 am]

BILLING CODE 6560-50-P